DEPARTMENT OF HEALTH AND HUMAN SERVICES

National Institutes of Health

National Cancer Institute; Amended Notice of Meeting

Notice is hereby given of a change in the meeting of the National Cancer Institute Special Emphasis Panel, March 26, 2020, 8:00 a.m. to 6:00 p.m., Marriott Bethesda North Hotel & Conference Hotel, 5701 Marinelli Rd, Rockville, MD, 20850 which was published in the Federal Register on December 2, 2019, 84 FR 65990.

This meeting notice is amended to change the meeting location and format. The meeting will now be held on March 26, 2020, 8:00 a.m. to 6:00 p.m. as a teleconference at National Cancer Institute (NCI) Shady Grove, 9609 Medical Center Drive, Rockville, MD 20850. The meeting is closed to the public.

Dated: March 13, 2020.
Melanie J. Pantoja,
Program Analyst, Office of Federal Advisory Committee Policy.

[FR Doc. 2020-05642 Filed 3-17-20; 8:45 am]

BILLING CODE 4140-01-P